DEPARTMENT OF COMMERCE

International Trade Administration

Notice of Clarification: Application of “Next Business Day” Rule for Administrative Determination Deadlines Pursuant to the Tariff Act of 1930, As Amended

AGENCY: Import Administration, International Trade Administration, Department of Commerce.

EFFECTIVE DATE: May 10, 2005.

FOR FURTHER INFORMATION CONTACT: Katja Kravetsky at (202) 482-0108, Import Administration, International Trade Administration, U.S. Department of Commerce, 14th Street & Constitution Ave, NW., Washington, DC 20230.

SUPPLEMENTARY INFORMATION:

Background

The Tariff Act of 1930, as amended (the Act), requires that the Department of Commerce (the Department) make preliminary and final determinations during an administrative proceeding within specified time limits. See, e.g., section 751(a) of the Act, 19 U.S.C. § 1675(a). The Act does not address the treatment of deadlines falling on a weekend, federal holiday, or day on which the Department is otherwise closed, e.g., due to a weather emergency.

With respect to certain deadlines involving filings made with the Department, the agency's regulations clarify that where “the applicable time limit expires on a non-business day, the Secretary will accept documents that are filed on the next business day.” See 19 CFR 351.303(b); see, also, Dofasco, Inc. v. United States, 390 F.3d 1370, 1372 (Fed. Cir. 2004). With respect to deadlines for reaching administrative determinations, the Department's longstanding practice has been to apply a similar “next business day” rule, which recognizes the administrative reality that there are no employees present to make administrative determinations that fall due when the Department is closed. While this practice has never been challenged, the Department has concluded that it is appropriate to publicize this practice to interested parties.

Clarification of Statutory Deadlines

The Department hereby clarifies that where a statutory deadline falls on a weekend, federal holiday, or any other day when the Department is closed, the Department will continue its longstanding practice of reaching our determination on the next business day. We find that this clarification is consistent with federal practice. See Fed. R. Civ. P. 6(a); Fed R. App. P. 26(a); see, also, Dofasco Inc., 390 F.3d at 1372.

Dated: April 29, 2005.
Joseph A. Spetrini,
Acting Assistant Sectretary for Import Administration.

[FR Doc. E5-2234 Filed 5-9-05; 8:45 am]

BILLING CODE 3510-DS-S